DEPARTMENT OF HOMELAND SECURITY

Coast Guard

33 CFR Part 117

[Docket No. USCG-2012-0870]

Drawbridge Operation Regulation; Atlantic Intracoastal Waterway (AIWW), Elizabeth River, Southern Branch, Chesapeake, VA

AGENCY: Coast Guard, DHS.

ACTION: Notice of temporary deviation from regulations.

SUMMARY: The Coast Guard has issued a temporary deviation from the operating schedule that governs the operation of the Norfolk Southern #7 Railroad Bridge across the Elizabeth River (Southern Branch), AIWW mile 5.8, at Chesapeake, VA. This deviation is necessary to facilitate replacing lift joints on the Norfolk Southern #7 Railroad Bridge. This temporary deviation will allow the drawbridge to remain in the closed-to-navigation position on specific dates and times.

DATES: This deviation is effective from 6 a.m. on October 9, 2012 until 8 p.m. on October 11, 2012.

ADDRESSES: Documents indicated in this preamble as being available in the docket are part of docket USCG-2012-0870 and are available online at www.regulations.gov, inserting USCG-2012-0870 in the “Keywords” box and then clicking “Search”. This material is also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mr. Jim Rousseau, Bridge Management Specialist, Fifth Coast Guard District; telephone (757) 398-6557, email James.L.Rousseau2@uscg.mil. If you have any questions on reviewing the docket, call Renee V. Wright, Program Manager, Docket Operations, 202-366-9826.

SUPPLEMENTARY INFORMATION: The Norfolk Southern Corporation, owner and operator of the single-leaf bascule Norfolk Southern #7 Railroad Bridge, mile 5.8, at Chesapeake, VA, has requested a temporary deviation from the current operating regulations set out in 33 CFR 117.997(d), to accommodate lift joint replacement.

Under the current operating schedule the bridge shall be left in the open position at all times and will only be lowered for the passage of trains and to perform periodic maintenance. The Norfolk Southern #7 Bridge, at AIWW mile 5.8, across the Elizabeth River (Southern Branch) in Chesapeake, VA, has a vertical clearance in the closed position to vessels of 7 feet above mean high water.

To facilitate lift joint replacement, the drawbridge will be maintained in the closed-to-navigation position from 6 a.m. to 8 p.m. on October 9, 2012 and again from 6 a.m. to 8 p.m. on October 11, 2012; at all other times the bridge will operate in accordance to its regular operating schedule. The bridge normally operates in the open position with several vessels transiting a week. Coordination with waterway users has been completed.

The Coast Guard will inform the users of the waterway through our Local and Broadcast Notices to Mariners of the opening restrictions of the draw span to minimize transiting delays caused by the temporary deviation. There are no alternate routes available but vessels may pass between 8 p.m. and 6 a.m. during the relevant time period. Mariners able to pass under the bridge in the closed position may do so at any time and the bridge is able to open for emergencies. Mariners are advised to proceed with caution.

In accordance with 33 CFR 117.35(e), the drawbridge must return to its regular operating schedule immediately at the end of the designated time period. This deviation from the operating regulations is authorized under 33 CFR 117.35.

Dated: September 17, 2012.
Waverly W. Gregory, Jr.,
Bridge Program Manager, Fifth Coast Guard District.

[FR Doc. 2012-23658 Filed 9-25-12; 8:45 am]

BILLING CODE 9110-04-P